DEPARTMENT OF STATE

[Public Notice:12834; No. 2025-06]

Designation Pursuant to the Foreign Missions Act

Pursuant to the authority vested in the U.S. Secretary of State by the laws of the United States, including under the Foreign Missions Act, 22 U.S.C. 4301, et seq. (“the Act”), and delegated pursuant to U.S. Department of State Delegation of Authority No. 214, dated September 20, 1994, and after due consideration of the benefits, privileges, and immunities provided to the missions of the United States abroad, as well as matters related to the protection of the interests of the United States, I hereby designate the acquisition by any means of luxury goods, as specified below, as a benefit, as defined in 22 U.S.C. 4302(a)(1), for purposes of the Act.

For purposes of this designation, a luxury good is defined as any of the following items that, unless otherwise specified, are valued over 1,000 USD, before tax, per item: watches (including wristwatches, pocket-watches, and other watches); leather apparel and clothing accessories; silk apparel and clothing accessories; footwear; fur skins and artificial furs; handbags; wallets; fountain pens; cosmetics; perfumes and toilet waters; works of art (including paintings, original sculptures, and statuary); antiques (more than 100 years old); carpets, rugs, or tapestries; pearls, gems, and precious and semi-precious stones; jewelry with pearls, gems, or precious or semi-precious stones; jewelry of precious metal or of metal clad with precious metal; electronic items and appliances; recreational sports articles and equipment; musical instruments; cigarettes and cigars; wine, spirits, beer, and spirituous beverages; and personal automobiles and other personal motor vehicles valued over 60,000 USD, before tax.

Dated: September 16, 2025.
Clifton C. Seagroves,
Acting Director Office of Foreign Missions, U.S. Department of State.

[FR Doc. 2025-18389 Filed 9-22-25; 8:45 am]

BILLING CODE 4711-07-P